DEPARTMENT OF DEFENSE

Office of the Secretary

[Docket ID: DoD-2023-OS-0037]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 5, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Active Duty Spouse Survey; OMB Control Number 0704-0604.

Needs and Uses: The Active Duty Spouse Survey (ADSS) is the primary source for reliable and generalizable survey data on the effects of military life on military spouses and their families and the effectiveness of current programs and policies. This scientific survey is designed to enhance understanding of how spouse and family resilience impact force readiness and retention and inform the effectiveness of programs and policies under the purview of DoD's Military Community and Family Policy (MC&FP) Department. The ADSS provides unique, ongoing, reliable data to equip policymakers with the information they need to make strategic, data-driven decisions on a vital component of the total force—military spouses and families. All active duty spouses who want to share their experiences but were not selected as part of the larger scientific survey will be able to complete a shorter survey hosted online during the same field period.

Affected Public: Individuals or households.

Annual Burden Hours: 2,875.

Number of Respondents: 11,500.

Responses per Respondent: 1.

Annual Responses: 11,500.

Average Burden per Response: 15 minutes.

Frequency: Once.

The Office of People Analytics (OPA) will administer the Active Duty Spouse Survey (ADSS) to active duty spouses of Army, Navy, Marine Corps, and Air Force members who are below flag rank. Only spouses selected as part of the random sample will be asked to complete the survey. The ADSS includes a paper survey option and postal notifications will include a respondent-specific QR code, enabling spouses to quickly access their survey via mobile platforms. To reduce respondent burden, web-based surveys use “smart skip” technology to ensure respondents only answer questions that are applicable to them. Respondents may access the survey via the web on a device they select. Respondents may return to the survey to continue/complete the questionnaire anytime during the survey period. Because the ADSS contains questions on sensitive topics, consent information will inform sample members that the survey is voluntary, that they may decline or skip questions they do not wish to answer, and identify any potential risks and benefits of participation. The web survey will be administered on proprietary software developed by OPA's operations contractor, Data Recognition Corporation (DRC). Digitally signed emails, electronic files, and web-based technology will be used for respondent communications and for data collection. OPA uses a sampling tool developed by the Research Triangle Institute (RTI) to determine the sample size needed to achieve 95% confidence and an associated precision of 5% or less on each reporting category domain. OPA uses Service, paygrade, gender, and family status to define the initial strata. We collapse these strata when there are fewer than 200 individuals in the stratum. OPA weights the eligible respondents in order to make inferences about the entire population of active duty spouses. The weighting methodology utilizes standard weighting processes.

Dated: April 27, 2023.
Aaron T. Siegel,
Alternate OSD Federal Register Liaison Officer, Department of Defense.

[FR Doc. 2023-09623 Filed 5-4-23; 8:45 am]

BILLING CODE 5001-06-P